DEPARTMENT OF ENERGY

Federal Energy Regulatory Commission

[Project No. 14154-000]

William Arkoosh; Notice of Intent To File License Application, Filing of Pre-Application Document, and Approving Use of the Traditional Licensing Process

a. Type of Filing: Notice of Intent to File License Application and Request to Use the Traditional Licensing Process.

b. Project No.: 15154-000.

c. Dated Filed: April 28, 2011.

d. Submitted By: William Arkoosh.

e. Name of Project: Little Wood River Ranch II Hydroelectric Project.

f. Location: On the Little Wood River, in Lincoln County, Idaho. The project occupies 3.3 acres of United States lands administered by the Bureau of Land Management.

g. Filed Pursuant to: 18 CFR 5.3 of the Commission's regulations.

h. Potential Applicant Contact: William Arkoosh, 2005 Highway 26, Gooding, ID 83330; (208) 934-5387.

i. FERC Contact: Jennifer Harper at (202) 502-6136; or e-mail at Jennifer.Harper@ferc.gov.

j. Mr. Arkoosh filed his request to use the Traditional Licensing Process on April 28, 2011. Mr. Arkoosh provided public notice of his request on May 26, 2011. In a letter dated June 23, 2011, the Director of the Division of Hydropower Licensing approved Mr. Arkoosh's request to use the Traditional Licensing Process.

k. With this notice, we are initiating informal consultation with: (a) The U.S. Fish and Wildlife Service under section 7 of the Endangered Species Act and the joint agency regulations thereunder at 50 CFR, Part 402; and (b) (c) the Idaho State Historic Preservation Officer, as required by section 106, National Historical Preservation Act, and the implementing regulations of the Advisory Council on Historic Preservation at 36 CFR 800.2.

l. A copy of the Pre-Application Document, filed April 28, 2011, is available for review at the Commission in the Public Reference Room or may be viewed on the Commission's Web site (http://www.ferc.gov), using the “eLibrary” link. Enter the docket number, excluding the last three digits in the docket number field to access the document. For assistance, contact FERC Online Support at FERCOnlineSupport@ferc.gov or toll free at 1-866-208-3676, or for TTY, (202) 502-8659. A copy is also available for inspection and reproduction at the address in paragraph h.

m. Register online at http://www.ferc.gov/docs-filing/esubscription.asp to be notified via e-mail of new filing and issuances related to this or other pending projects. For assistance, contact FERC Online Support.

Dated: June 23, 2011.
Kimberly D. Bose,
Secretary.

[FR Doc. 2011-16476 Filed 6-29-11; 8:45 am]

BILLING CODE 6717-01-P